LEGAL SERVICES CORPORATION

Sunshine Act Meeting

DATE AND TIME: The Legal Services Corporation's Board of Directors and its six committees will meet January 28-29, 2021. On Thursday, January 28, the first meeting will commence at 11:00 a.m., Eastern Daylight Time (EDT), with the next meeting commencing promptly upon adjournment of the immediately preceding meeting. On Friday, January 29, the first meeting will commence at 12:00 p.m., EDT, with the next meeting commencing promptly upon adjournment of the immediately preceding meeting. On Friday, January 29, the closed session meeting of the Board of Directors will commence at 5:15 p.m., EDT.

LOCATION: PUBLIC NOTICE OF VIRTUAL REMOTE MEETING.

Due to the COVID-19 public health crisis, Legal Services Corporation (LSC) will be conducting the January 28-29, 2021 meetings remotely via ZOOM.

PUBLIC OBSERVATION: Unless otherwise noted herein, the Board and all committee meetings will be open to public observation. Members of the public who wish to participate remotely in the public proceedings may do so by following the directions provided below.

DIRECTIONS FOR OPEN SESSIONS:

Thursday, January 28, 2021

• To join the Zoom Meeting by computer: please click the below link. https://lsc-gov.zoom.us/j/98432856166?pwd=WENUMkxsZDcvczJGczQ4R1RFWmEwQT09

• Meeting ID: 984 3285 6166

• Passcode: 768308

• To join the Zoom meeting with one touch from your mobile phone, click below:

+16468769923,,98432856166# US (New York)

+13017158592,,98432856166# US (Germantown)

• To join the Zoom meeting by phone, use this information:

Dial by Your Location

• Find your local number: https://lsc-gov.zoom.us/u/a18q49yI6

Friday, January 29, 2021

• To join the Zoom Meeting by computer: please click the below link. https://lsc-gov.zoom.us/j/98502884283?pwd=eDBDdHlLSG9JV0FLbFZvWGNDSzhGUT09

• Meeting ID: 985 0288 4283

• Passcode: 079447

• To join the Zoom meeting with one touch from your mobile phone, click below:

+13126266799,,9850288428# US (Germantown)

+16468769923,,9850288428# US (Chicago)

• To join the Zoom meeting by phone, use this information:

Dial by your location

• Find your local number: https://lsc-gov.zoom.us/u/awDabt5DP

• When connected to the call, please immediately “MUTE” your telephone. Members of the public are asked to keep their telephones muted to eliminate background noises. To avoid disrupting the meeting, please refrain from placing the call on hold if doing so will trigger recorded music or other sound. From time to time, the Chair may solicit comments from the public.

• To participate in the meeting during public comment you will be notified when your microphone is no longer “MUTED” and you may give your questions, and or comments.

Meeting Schedule
| Time **
Thursday, January 28, 2021:
1. Governance and Performance Review Committee | 11:00 a.m.
2. Institutional Advancement Committee
3. Communications Subcommittee of the Institutional Advancement Committee
4. Operations & Regulations Committee
5. Delivery of Legal Services Committee
Friday, January 29, 2021:
1. Finance Committee | 12:00 p.m.
2. Combined Audit & Finance Committees
3. Audit Committee
4. Board of Directors
** Any portion of the closed session consisting solely of briefings does not fall within the Sunshine Act's definition of the term “meeting” and, therefore, the requirements of the Sunshine Act do not apply to such portion of the closed session. 5 U.S.C. 552b (a) (2) and (b). See also 45 CFR 1622.2 & 1622.3. Please note all meetings are Eastern Daylight Time (EDT).

STATUS OF MEETING: Open, except as noted below.

Board of Directors—Open, except that, upon a vote of the Board of Directors, a portion of the meeting may be closed to the public to hear briefings by management and LSC's Inspector General, and to consider and act on the General Counsel's report on potential and pending litigation involving LSC.**

Institutional Advancement Committee—Open, except that, upon a vote of the Board of Directors, the meeting may be closed to the public to consider and act on recommendation of new Leaders Council invitees and to receive a briefing on the Development activities.**

Audit Committee—Open, except that the meeting may be closed to the public to hear a briefing on the Office of Compliance and Enforcement's active enforcement matters.**

Combined Audit and Finance Committees—Closed to hear a management briefing.**

A verbatim written transcript will be made of the closed session of the Board, Institutional Advancement Committee, Audit Committee, and Joint Audit and Finance Committees meetings. The transcript of any portions of the closed sessions falling within the relevant provisions of the Government in the Sunshine Act, 5 U.S.C. 552b(c)(6) and (10), will not be available for public inspection. A copy of the General Counsel's Certification that, in his opinion, the closing is authorized by law will be available upon request.

MATTERS TO BE CONSIDERED:

January 28, 2021

Governance and Performance Review Committee

Open Session

1. Approval of agenda

2. Approval of minutes of the Committee's Open Session meeting on October 19, 2020

3. Report on briefing materials for Biden Transition team

• Carol Bergman, Vice President for Government Relations & Public Affairs

4. Report on annual Board and Committee evaluations

• Carol Bergman, Vice President for Government Relations & Public Affairs

5. Report on Governance and Performance Review Committee evaluation

• Carol Bergman, Vice President for Government Relations & Public Affairs

6. Discussion of President's evaluation for 2020

7. Discussion of Inspector General's 2020 activities

• Jeffrey Schanz, Inspector General

8. Consider and act on other business

9. Public comment

10. Consider and act on motion to adjourn the meeting

January 28, 2021

Institutional Advancement Committee

Open Session

1. Approval of agenda

2. Approval of minutes of the Institutional Advancement Committee's Open Session meeting of October 19, 2020

3. Discussion of Committee's evaluations for 2020 and the Committee's goals for 2021

4. Development report

• Nadia Elguindy, Director of Institutional Advancement

• Ron Flagg, President

5. Update on Leaders Council and Emerging Leaders Council

• John G. Levi, Chairman of the Board

6. Update on Emerging Leaders Council Communications Committee

• Kristen Sonday, Co-Chair of LSC's Emerging Leaders Council

7. Update on Disaster Task Force Implementation

• Lynn Jennings, Vice President for Grants Management

• David Bonebrake, Program Counsel, Office of Program Performance

8. Public Comment

9. Consider and act on other business

10. Consider and act on motion to adjourn the open session meeting and proceed to a closed session

Closed Session

1. Approval of minutes of the Committee's Closed Session meeting of October 19, 2020

2. Development activities report

• Nadia Elguindy, Director of Institutional Advancement

• Ron Flagg, President

3. Consider and act on motion to approve Leaders Council and Emerging Leaders Council invitees

4. Consider and act on other business

5. Consider and act on motion to adjourn the meeting

January 28, 2021

Communications Subcommittee of the Institutional Advancement Committee

Open Session

1. Approval of agenda

2. Approval of minutes of the Subcommittee's Open Session meeting of October 19, 2020

3. Discussion of Subcommittee's evaluations for 2020 and the Committee's goals for 2021

4. Communications and social media update

• Carl Rauscher, Director of Communications and Media Relations

5. Public comment

6. Consider and act on other business

7. Consider and act on motion to adjourn the meeting

January 28, 2021

Operations & Regulations Committee

Open Session

1. Approval of agenda

2. Approval of minutes of the Committee's Open Session meeting of October 19, 2020

3. Discussion of Committee's evaluations for 2020 and the Committee's goals for 2021

4. Discussion of Management's report on implementation of the Strategic Plan 2017-2020

• Ron Flagg, President

5. Public comment

6. Consider and act on other business

7. Consider and act on adjournment of meeting

January 28, 2021

Delivery of Legal Services Committee

Open Session

1. Approval of agenda

2. Approval of minutes of the Committee's Open Session meeting on October 19, 2020

3. Discussion of Committee's evaluations for 2020 and the Committee's goals for 2021

4. Update on revisions to LSC Performance Criteria

• Lynn Jennings, Vice President for Grants Management

5. Briefing from the Office of Data Governance and Analysis

• Carlos Manjarrez, Chief Data Officer, Office of Data Governance and Analysis

6. Panel Presentation on Intake Procedures

• Joyce Akasaka, Senior Attorney, Legal Aid Society of San Diego

• Ashley Lowe, Executive Director, Lakeshore Legal Aid

• Lori Molloy, Executive Director, North Penn Legal Services

• Leslie Powell-Boudreaux, Executive Director, Legal Services of North Florida

• Alison Paul, Executive Director, Montana Legal Services

• Moderator: Lynn Jennings, Vice President for Grants Management

7. Public comment

8. Consider and act on other business

9. Consider and act on motion to adjourn the meeting

January 29, 2021

Finance Committee

Open Session

1. Approval of agenda

2. Approval of the minutes of the Committee's Open Session meeting of October 20, 2020

3. Discussion of Committee's evaluations for 2020 and the Committee's goals for 2021

4. Discussion of LSC's FY 2021 appropriation

• Carol Bergman, Vice President for Government Relations & Public Affairs

5. Presentation of FY 2021 Consolidated Operating Budget

• Debbie Moore, Treasurer and Chief Financial Officer

6. Consider and Act on Resolution 2021-XXX, LSC's Consolidated Operating Budget for FY 2021

7. Presentation of LSC's Financial Report for the first three months of FY 2021

• Debbie Moore, Treasurer and Chief Financial Officer

8. Discussion of LSC's FY 2022 appropriations request, additional COVID relief request, and emergency disaster supplemental appropriation request

• Carol Bergman Vice President for Government Relations & Public Affairs

9. Public comment

10. Consider and act on other business

11. Consider and act on adjournment of meeting

January 29, 2021

Combined Audit & Finance Commitee

Closed Session

1. Approval of agenda

2. Management briefing

• Ron Flagg, President

• Rebecca Weir, Deputy General Counsel

• Deborah Moore, Chief Financial Officer/Treasurer

• Jada Breegle, Chief Information Officer

3. Consider and act on adjournment of meeting

January 29, 2021

Audit Committee

Open Session

4. Approval of agenda

5. Approval of minutes of the Committee's Open Session meeting on October 20, 2020

6. Discussion of Committee's evaluations for 2020 and the Committee's goals for 2021

7. Briefing of Office of Inspector General

• Jeffrey Schanz, Inspector General

• Roxanne Caruso, Assistant Inspector General for Audit

8. Pursuant to Section VIII(C)(5) of the Committee Charter, review LSC's and the Office of Inspector General's mechanisms for the submission of confidential complaints

• Dan O'Rourke, Assistant Inspector General for Investigation

• Lora Rath, Director, Office of Compliance and Enforcement

9. Management update regarding risk management

• Ron Flagg, President

10. Briefing about follow-up by the Office of Compliance and Enforcement on referrals by the Office of Inspector General regarding audit reports and annual Independent Public audits of grantees

• Jeffrey Schanz, Inspector General

• Roxanne Caruso, Assistant Inspector General for Audit

• Lora Rath, Director, Office of Compliance and Enforcement

11. Public comment

12. Consider and act on other business

13. Consider and act on motion to adjourn the open session meeting and proceed to a closed session

Closed Session

1. Approval of minutes of the Committee's Closed Session meeting of October 20, 2020

2. Briefing on Office of Compliance and Enforcement on active enforcement matter(s) and follow-up on open investigations referrals from the Office of Inspector General

• Lora Rath, Director, Office of Compliance and Enforcement

3. Consider and act on adjournment of meeting

Jnuary 29, 2021

Board of Directors

Open Session—January 29, 2021

1. Pledge of Allegiance

2. Approval of agenda

3. Approval of minutes of the Board's Open Session meeting of October 20, 2020

4. Approval of minutes of the Board's Open Session telephonic meeting of November 16, 2020

5. Consider and act on nominations for the Chair of Board of Directors

6. Consider and act on nominations for the Vice Chair of Board of Directors

7. Chairman's Report

8. Members' Report

9. President's Report

10. Inspector General's Report

11. Consider and act on the report of the Operations and Regulations Committee

12. Consider and act on the report of the Governance and Performance Committee

13. Consider and act on the report of the Combined Audit and Finance Committees

14. Consider and act on the report of the Audit Committee

15. Consider and act on the report of the Finance Committee

16. Consider and act on the report of the Institutional Advancement Committee

17. Consider and act on the report of the Delivery of Legal Services Committee

18. Update on the Housing Task Force

19. Update on the Veterans Task Force and Opioid Task Force Implementation

• Stefanie Davis, Senior Assistant General Counsel

20. Consider and act on the draft LSC Strategic Plan for 2021-2024

21. Public Comment

22. Consider and act on other business

23. Consider and act on whether to authorize a closed session of the Board to address items listed below

Closed Session

1. Approval of minutes of the Board's Closed Session meeting of October 20, 2020

2. Management briefing

3. Inspector General briefing

4. Consider and act on General Counsel's report on potential and pending litigation involving LSC

5. Consider and act on prospective Leaders Council and Emerging Leaders Council invitees

6. Consider and act on motion to adjourn meeting

CONTACT PERSON FOR INFORMATION: Rebecca Fertig Cohen, Chief of Staff & Corporate Secretary, at (202) 295-1576 and Caroline Shriver, Board Affairs Coordinator, at (202) 302-4335. Questions may be sent by electronic mail to FR_NOTICE_QUESTIONS@lsc.gov.

NON-CONFIDENTIAL MEETING MATERIALS: Non-confidential meeting materials will be made available in electronic format at least 24 hours in advance of the meeting on the LSC website, at http://www.lsc.gov/board-directors/meetings/board-meeting-notices/non-confidential-materials-be-considered-open-session.

Dated: January 14, 2021.
Stefanie Davis,
Senior Assistant General Counsel.

[FR Doc. 2021-01319 Filed 1-15-21; 11:15 am]

BILLING CODE 7050-01-P